DEPARTMENT OF LABOR

Employment And Training Administration

[TA-W-55,840]

Sun Microsystems, Inc., Restoration Services, Burlington, MA; Dismissal of Application for Reconsideration

Pursuant to 29 CFR 90.18(C) an application for administrative reconsideration was filed with the Director of the Division of Trade Adjustment Assistance for workers at Sun Microsystems, Inc., Restoration Services, Burlington, Massachusetts. The application contained no new substantial information which would bear importantly on the Department's determination. Therefore, dismissal of the application was issued.

TA-W-55,840; Sun Microsystems, Inc., Restoration Services, Burlington, Massachusetts (February 2, 2005).

Signed in Washington, DC this 16th day of February, 2005.
Linda G. Poole,
Acting Director, Division of Trade Adjustment Assistance.

[FR Doc. E5-987 Filed 3-8-05; 8:45 am]

BILLING CODE 4510-30-P